FEDERAL COMMUNICATIONS COMMISSION

Notice of Public Information Collection(s) Being Reviewed by the Federal Communications Commission

December 30, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 14, 2003. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION:

OMB Control No.: 3060-0395.

Title: The ARMIS USOA Report; the ARMIS Service Quality Report; and the ARMIS Infrastructure Report.

Report Nos: FCC Reports 43-02; 43-05; and 43-07.

Type of Review: Revision of a currently approved collection.

Respondents: Business or other for-profit.

Number of Respondents: 49.

Estimated Time Per Response: 483 hours.

Frequency of Response: Annual reporting requirements and recordkeeping requirement.

Total Annual Burden: 23,674 hours.

Total Annual Cost: N/A.

Needs and Uses: The USOA Report provides the annual results of the carriers' activities for each account of the Uniform System of Accounts. The Service Quality Report provides service quality information in the areas of interexchange access service, installation and repair intervals, local service installation and repair intervals, trunk blockage, and total switch downtime for price cap carriers. The Infrastructure Report provides switch deployment capabilities data. The Commission is revising this collection because they have completed an internal review of the reporting and recordkeeping requirements to streamline the collection and reduce public burden.

OMB Control No.: 3060-0496.

Title: The ARMIS Operating Data Report.

Report No.: FCC Report 43-08.

Type of Review: Revision of a currently approved collection.

Respondents: Business or other for-profit.

Number of Respondents: 53.

Estimated Time Per Response: 139 hours.

Frequency of Response: Annual reporting requirement and recordkeeping requirement.

Total Annual Burden: 7,349 hours.

Total Annual Cost: N/A.

Needs and Uses: The Operating Data Report collects annual statistical data in a consistent format that is essential for the Commission to monitor network growth, usage, and reliability. The Commission is revising this collection because they have completed an internal review of the reporting and recordkeeping requirements to streamline the collection and reduce public burden.

OMB Control No.: 3060-0511.

Title: ARMIS Access Report.

Report No.: FCC Report 43-04.

Type of Review: Revision of a currently approved collection.

Respondents: Business or other for-profit.

Number of Respondents: 84.

Estimated Time Per Response: 157 hours.

Frequency of Response: Annual reporting requirement.

Total Annual Burden: 13,188 hours.

Total Annual Cost: N/A.

Needs and Uses: The Access Report is needed to administer the Commission's accounting, jurisdictional separations and access charge rules; to analyze revenue requirements and rates of return, and to collect financial data from Tier 1 incumbent local exchange carriers. The Commission is revising this collection because they have completed an internal review of the reporting and recordkeeping requirements to streamline the collection and reduce public burden.

OMB Control No.: 3060-0512.

Title: The ARMIS Annual Summary Report.

Report No.: FCC Report 43-01.

Type of Review: Revision of a currently approved collection.

Respondents: Business or other for-profit.

Number of Respondents: 115.

Estimated Time Per Response: 93 hours.

Frequency of Response: Annual reporting requirement.

Total Annual Burden: 10,695 hours.

Total Annual Cost: N/A.

Needs and Uses: The Annual Summary Report contains financial and operating data and is used to monitor the incumbent local exchange carrier industry and to perform routine analyses of costs and revenues on behalf of the Commission. The Commission is revising this collection because they have completed an internal review of the reporting and recordkeeping requirements to streamline the collection and reduce public burden.

OMB Control No.: 3060-0513.

Title: ARMIS Joint Cost Report.

Report No.: FCC Report 43-03.

Type of Review: Revision of a currently approved collection.

Respondents: Business or other for-profit.

Number of Respondents: 85.

Estimated Time Per Response: 76 hours.

Frequency of Response: Annual reporting requirement.

Total Annual Burden: 6,460 hours.

Total Annual Cost: N/A.

Needs and Uses: The Joint Cost Report is needed to administer our joint cost rules (Part 64) and to analyze data in order to prevent cross-subsidization of non-regulated operations by the regulated operations of Tier 1 carriers. The Commission is revising this collection because they have completed an internal review of the reporting and recordkeeping requirements to streamline the collection and reduce public burden.

OMB Control No.: 3060-0763.

Title: The ARMIS Customer Satisfaction Report.

Report No.: FCC Report 43-06.

Type of Review: Revision of a currently approved collection.

Respondents: Business or other for-profit.

Number of Respondents: 7.

Estimated Time Per Response: 720 hours.

Frequency of Response: Annual reporting requirement.

Total Annual Burden: 5,040 hours.

Total Annual Cost: N/A.

Needs and Uses: The Customer Satisfaction Report reflects the results of customer satisfaction based on surveys conducted by individual carriers from their customers. The Commission is revising this collection because they have completed an internal review of the reporting and recordkeeping requirements to streamline the collection and reduce public burden.

OMB Control No.: 3060-0855.

Title: Telecommunications Reporting Worksheet, CC Docket No. 96-45.

Form Nos: FCC Forms 499, 499-A and 499-Q.

Type of Review: Extension of a currently approved collection.

Respondents: Business or other for-profit, not-for-profit institutions.

Number of Respondents: 5,500 respondents; 15,500 responses.

Estimated Time Per Response: 11.5 hours.

Frequency of Response: On occasion, annual, quarterly, and one time reporting requirements, third party disclosure requirement and recordkeeping requirement.

Total Annual Burden: 164,487 hours.

Total Annual Cost: N/A.

Needs and Uses: Telecommunications carriers (and certain other providers of telecommunications services) must contribute to the support and cost recovery mechanisms for telecommunications relay services, numbering administration, number portability, and universal service. The Commission modified the existing methodology used to assess contributions that carriers make to the federal universal service support mechanisms. This will entail altering to the current revenue reporting requirements to which interstate telecommunications carriers are subject under Part 54 of the Commission's rules. The Office of Management and Budget (OMB) approved this information collection as an emergency request on 12/18/02. We are now extending the approval for this information collection and seeking the regular three-year approval.

Federal Communications Commission.
Marlene H. Dortch,
Secretary.

[FR Doc. 03-576 Filed 1-10-03; 8:45 am]

BILLING CODE 6712-01-P